DEPARTMENT OF THE INTERIOR

National Park Service

60-Day Notice of Intention to Request Clearance of Collection of Information; Opportunity for Public Comment

AGENCY: National Park Service, Interior.

ACTION: Notice and request for comments.

SUMMARY: Under the provisions of the Paperwork Reduction Act of 1995 and 5 CFR Part 1320, Reporting and Record Keeping Requirements, the National Park Service (NPS) invites public comments on an extension of a currently approved information collection Office of Management and Budget (OMB) Control # 1024-0233.

DATES: Public comments on the Information Collection Request (ICR) will be accepted on or before September 13, 2010.

ADDRESSES: You may submit comments directly to Ms. Jo A. Pendry, Chief, Commercial Services Program, National Park Service, 1849 C Street, NW. (2410), Washington, DC 20240, by fax at 202/371-2090, or electronically to jo_pendry@nps.gov. All responses to this notice will be summarized and included in the request for the OMB approval. All comments will become a matter of public record.

FOR FURTHER INFORMATION CONTACT: Jo A. Pendry, phone: 202-513-7156 or at the address above.

SUPPLEMENTARY INFORMATION:

Title: Leasing Regulations—36 CFR 18.

OMB Control Number: 1024-0233.

Expiration Date of Approval: November 30, 2010.

Type of Request: Extension of a currently approved information collection.

Description of Need: The information is being collected to meet the requirements of Section 802 of the National Park Omnibus Management Act of 1998, concerning the granting of a legislative authority, policies, and requirements for the solicitation, award and administration of National Park Service leases for property located within area of the national park system.

Description of Respondents: Persons or entities seeking a leasing opportunity with the National Park Service.

Estimate of Burden: Approximately 7 hours per response.

Estimated Number of Respondents: 627 per year.

Estimated Number of Responses per Respondent: One.

Estimated Total Annual Burden on Respondents: 4,389 hours.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so. Please refer to OMB control number 1024-0233 in all correspondence.

Dated: July 8, 2010.
Cartina Miller,
NPS Information Collection Clearance Officer .

[FR Doc. 2010-17081 Filed 7-13-10; 8:45 am]

BILLING CODE 4312-53-P